FEDERAL MARITIME COMMISSION

Ocean Transportation Intermediary License; Revocations

The Federal Maritime Commission hereby gives notice that the following Ocean Transportation Intermediary licenses have been revoked pursuant to section 40901 of the Shipping Act of 1984 (46 U.S.C. 40101) effective on the corresponding date shown below:

License Number: 2958F.

Name: Elite International Transportation, Inc.

Address: 15333 JFK Blvd., 6th Floor, Houston, TX 77032.

Date Revoked: May 9, 2012.

Reason: Failed to maintain a valid bond.

License Number: 004670F.

Name: The Pelixan Group, Inc.

Address: 72 Pinecrest Drive, Miami Springs, FL 33166.

Date Revoked: May 19, 2012.

Reason: Failed to maintain a valid bond.

License Number: 11057NF.

Name: EMO Trans, Texas, Inc.

Address: 2928 B Greens Road, Suite 350.

Date Revoked: April 17, 2012.

Reason: Voluntarily surrendered license.

License Number: 016633F.

Name: Uniship, Inc.

Address: 320 Pine Avenue, Suite 400, Long Beach, CA 90802.

Date Revoked: May 12, 2012.

Reason: Failed to maintain a valid bond.

License Number: 020397N.

Name: F.I.D. International, Inc.

Address: 5150 NW 109th Avenue, Sunrise, FL 33351.

Date Revoked: April 8, 2012.

Reason: Failed to maintain a valid bond.

License Number: 021899NF.

Name: Trans World Logistics Corporation.

Address: 702 Penny Lane, Plainfield, IN 46168.

Date Revoked: May 19, 2012.

Reason: Failed to maintain a valid bond.

License Number: 022238F.

Name: Grimes Supply Chain Services, Inc.

Address: 600 North Ellis Road, Jacksonville, FL 32254.

Date Revoked: May 16, 2012.

Reason: Failed to maintain a valid bond.

Vern W. Hill,
Director, Bureau of Certification and Licensing.

[FR Doc. 2012-15050 Filed 6-19-12; 8:45 am]

BILLING CODE 6730-01-P